SMALL BUSINESS ADMINISTRATION

Data Collection Available for Public Comments

ACTION: 60 Day notice and request for comments.

SUMMARY: In accordance with the Paperwork Reduction Act of 1995, this notice announces the Small Business Administration's intentions to request approval on a new and/or currently approved information collection.

DATES: Submit comments on or before May 12, 2020.

ADDRESSES: Send all comments regarding whether this information collection is necessary for the proper performance of the function of the agency, whether the burden estimates are accurate, and if there are ways to minimize the estimated burden and enhance the quality of the collection, to Veronica Dymond, Public Affairs Specialist, Office of Communications, Small Business Administration, 409 3rd Street SW, 7th Floor, Washington, DC 20416.

FOR FURTHER INFORMATION CONTACT: Veronica Dymond, Public Affairs Specialist, 202-205-6746, veronica.dymond@sba.gov. Curtis B. Rich, Management Analyst, 202-205-7030, curtis.rich@sba.gov.

SUPPLEMENTARY INFORMATION:

Title: “Small Business Administration Award Nomination.”

Abstract: Small Business owners or advocates who have been nominated for an SBA recognition award submit this information for use in evaluating nominee's eligibility for an award: Verifying accuracy of information submitted, and determining whether there are any actual or potential conflicts of interest. Awards are presented to winners during the Presidentially declared Small Business Week.

Description of Respondents: Nominated Small Business Owners or Advocates.

Form Number: 3300-3315.

Annual Responses: 600.

Annual Burden: 1,200.

Curtis Rich,
Management Analyst.

[FR Doc. 2020-05135 Filed 3-12-20; 8:45 am]

BILLING CODE 8025-01-P